ENVIRONMENTAL PROTECTION AGENCY

40 CFR Part 52

[EPA-R08-OAR-2019-0621; FRL-10008-52-Region 8]

Approval and Promulgation of Implementation Plans; Utah; Regional Haze 5-Year Progress Report State Implementation Plan

AGENCY: Environmental Protection Agency (EPA).

ACTION: Proposed rule.

SUMMARY: The Environmental Protection Agency (EPA) is proposing to approve a regional haze progress report State Implementation Plan (SIP) revision submitted by the State of Utah on March 7, 2016. The revision addresses the requirements for states to submit periodic reports describing progress toward reasonable progress goals established for regional haze and a determination of adequacy of the State's regional haze SIP. The EPA is taking this action pursuant to section 110 of the Clean Air Act (CAA).

DATES: Written comments must be received on or before July 16, 2020.

ADDRESSES: Submit your comments, identified by Docket ID No. EPA-R08-OAR-2019-0621, to the Federal Rulemaking Portal: https://www.regulations.gov. Follow the online instructions for submitting comments. Once submitted, comments cannot be edited or removed from www.regulations.gov. The EPA may publish any comment received to its public docket. Do not submit electronically any information you consider to be Confidential Business Information (CBI) or other information whose disclosure is restricted by statute. Multimedia submissions (audio, video, etc.) must be accompanied by a written comment. The written comment is considered the official comment and should include discussion of all points you wish to make. The EPA will generally not consider comments or comment contents located outside of the primary submission (i.e., on the web, cloud, or other file sharing system). For additional submission methods, the full EPA public comment policy, information about CBI or multimedia submissions, and general guidance on making effective comments, please visit http://www2.epa.gov/dockets/commenting-epa-dockets.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov. To reduce the risk of COVID-19 transmission, for this action we do not plan to offer hard copy review of the docket. Please email or call the person listed in the FOR FURTHER INFORMATION CONTACT section if you need to make alternative arrangements for access to the docket.

FOR FURTHER INFORMATION CONTACT: Jaslyn Dobrahner, Air and Radiation Division, EPA, Region 8, Mailcode 8ARD-IO, 1595 Wynkoop Street, Denver, Colorado, 80202-1129, (303) 312-6252, dobrahner.jaslyn@epa.gov.

SUPPLEMENTARY INFORMATION: Throughout this document wherever “we,” “us,” or “our” is used, we mean the EPA.

I. What action is the EPA proposing?

On March 7, 2016, Utah submitted a Progress Report SIP revision (Progress Report) which: (1) Detailed the progress made toward achieving progress for improving visibility at Class I areas,¹ and (2) declared a determination of adequacy of the State's regional haze plan to meet reasonable progress goals. The State provided a public hearing for comment on the Progress Report on December 1, 2014 and provided Federal Land Managers (FLMs) an opportunity to comment on the Progress Report. The EPA is proposing to approve Utah's March 7, 2016 regional haze Progress Report SIP submittal.

¹ 42 U.S.C. 7491(a). Areas designated as mandatory Class I Federal areas consist of national parks exceeding 6,000 acres, wilderness areas and national memorial parks exceeding 5,000 acres, and all international parks that were in existence on August 7, 1977. 42 U.S.C. 7472(a). In accordance with section 169A of the CAA, EPA, in consultation with the Department of Interior, promulgated a list of 156 areas where visibility is identified as an important value. 44 FR 69122 (Nov. 30, 1979). The extent of a mandatory Class I area includes subsequent changes in boundaries, such as park expansions. 42 U.S.C. 7472(a). Although states and tribes may designate as Class I additional areas whose visibility they consider to be an important value, the requirements of the visibility program set forth in section 169A of the CAA apply only to “mandatory Class I Federal areas.” Each mandatory Class I Federal area is the responsibility of a “Federal Land Manager.” 42 U.S.C. 7602(i). When we use the term “Class I area” in this section, we mean a “mandatory Class I Federal area.”

II. Background

A. Requirements of the Clean Air Act and the EPA's Regional Haze Rule

In section 169A of the 1977 Amendments to the CAA, Congress created a program for protecting visibility in the nation's national parks and wilderness areas. This section of the CAA establishes “as a national goal the prevention of any future, and the remedying of any existing, impairment of visibility in mandatory Class I Federal areas which impairment results from manmade air pollution.”

The EPA promulgated a rule to address regional haze on July 1, 1999.² The Regional Haze Rule revised the existing visibility regulations ³ to integrate provisions addressing regional haze and established a comprehensive visibility protection program for Class I areas. The requirements for regional haze, found at 40 CFR 51.308 and 40 CFR 51.309, are included in the EPA's visibility protection regulations at 40 CFR 51.300 through 40 CFR 51.309. The EPA revised the Regional Haze Rule on January 10, 2017.⁴

² 64 FR 35714, 35714 (July 1, 1999) (codified at 40 CFR part 51, subpart P).

³ The EPA had previously promulgated regulations to address visibility impairment in Class I areas that is “reasonably attributable” to a single source or small group of sources, i.e., reasonably attributable visibility impairment (RAVI). 45 FR 80084, 80084 (Dec. 2, 1980).

⁴ 82 FR 3078 (Jan. 10, 2017).

The CAA requires each state to develop a SIP to meet various air quality requirements, including protection of visibility.⁵ Regional haze SIPs must assure reasonable progress toward the national goal of achieving natural visibility conditions in Class I areas. A state must submit its SIP and SIP revisions to the EPA for approval. Once approved, a SIP is enforceable by the EPA and citizens under the CAA. If a state elects not to make a required SIP submittal, fails to make a required SIP submittal, or if we find that a state's required submittal is incomplete or not approvable, then we must promulgate a federal implementation plant (FIP) to fill this regulatory gap.⁶

⁵ 42 U.S.C. 7410(a), 7491, and 7492(a); CAA sections 110(a), 169A, and 169B.

⁶ 42 U.S.C. 7410(c)(1).

B. Requirements for Regional Haze SIPs Submitted Under 40 CFR 51.309

The EPA's Regional Haze Rule provides two paths to address regional haze. One is 40 CFR 51.308, which requires states to perform individual point source best available retrofit technology (BART) determinations and evaluate the need for other control strategies. The other method for addressing regional haze is through 40 CFR 51.309, and is an option for states termed the “Transport Region States,” including Utah. Transport Region States can adopt regional haze strategies based on recommendations from the Grand Canyon Visibility Transport Commission (GCVTC) for protecting the 16 Class I areas on the Colorado Plateau.⁷ The GCVTC submitted an annex to the EPA, known as the Backstop Trading Program, containing annual sulfur dioxide (SO2) emissions reduction milestones and detailed provisions of a backstop trading program to be implemented automatically if measures failed to achieve the SO2 milestones. Utah submitted a regional haze SIP under 40 CFR 51.309 to address stationary source SO2 emissions reductions and submitted a regional haze SIP under 40 CFR 51.309(d)(4)(vii) to address stationary source nitrogen oxide (NOX) and particulate matter (PM) emissions reductions.

⁷ The Colorado Plateau is a high, semi-arid tableland in southeast Utah, northern Arizona, northwest New Mexico, and western Colorado. The 16 mandatory Class I areas are: Grand Canyon National Park, Mount Baldy Wilderness, Petrified Forest National Park, Sycamore Canyon Wilderness, Black Canyon of the Gunnison National Park Wilderness, Flat Tops Wilderness, Maroon Bells Wilderness, Mesa Verde National Park, Weminuche Wilderness, West Elk Wilderness, San Pedro Park Wilderness, Arches National Park, Bryce Canyon National Park, Canyonlands National Park, Capital Reef National Park and Zion National Park.

C. Requirements for the Five-Year Regional Haze Progress Report SIP

Under both 40 CFR 51.308 and 40 CFR 51.309, states are required to submit progress reports that evaluate progress towards the reasonable progress goals for each mandatory federal Class I area within the state and in each Class I area outside the state that may be affected by emissions from within the state. In addition, the provisions also require states to submit, at the same time as the progress report, a determination of adequacy of the state's existing regional haze SIP. The first progress report must be in the form of a SIP revision and is due 5 years after submittal of the initial regional haze SIP.

As a Transport Region State, Utah submitted its Progress Report SIP under 40 CFR 51.309, and exercised the option to meet the requirements contained in 40 CFR 51.309 for regional haze implementation plans.⁸ The requirements for Transport Region State progress reports are similar to those for other states, but the requirements for the reports are codified at 40 CFR 51.309(d)(10).

⁸ Utah Department of Environmental Quality, Progress Report for Utah's State Implementation Plan for Regional Haze (Utah Progress Report), page F-8 (Feb. 16, 2016).

D. Regulatory and Legal History of the Utah Regional Haze SIP and FIP

On May 26, 2011, Utah submitted regional haze SIP revisions addressing the requirements of 40 CFR 51.309 that, for the most part, superseded and replaced regional haze SIP revisions submitted on December 12, 2003, August 8, 2004, and September 9, 2008.⁹ On December 14, 2012, the EPA approved the SIP revisions as meeting the requirements of the Regional Haze Rule except for the requirements under 40 CFR 51.309(d)(4)(vii) pertaining to NOX and PM BART.¹⁰ On June 4, 2015, the State of Utah submitted to the EPA a revision to its Regional Haze SIP to address the requirements under 40 CFR 51.309(d)(4)(vii) pertaining to NOX and PM BART, which included an alternative to BART.¹¹ On July 5, 2016, we partially approved and partially disapproved the June 4, 2015 SIP revision.¹² Specifically, the EPA approved the State's PM BART determination, but disapproved Utah's BART alternative for NOX. The EPA promulgated a FIP for those portions of the SIP that were disapproved.¹³ Several parties challenged the NOX BART FIP.¹⁴ As a result of the litigation, on September 11, 2017, the EPA's July 5, 2016 final rule was stayed by the U.S. Court of Appeals for the Tenth Circuit.¹⁵ On July 3, 2019, Utah submitted a subsequent SIP revision intended to replace the NOX BART FIP for PacifiCorp's Hunter and Huntington power plants.¹⁶ The SIP revision provides an alternative to BART for Hunter and Huntington that would provide greater reasonable progress toward natural visibility conditions than BART. On January 22, 2020, the EPA proposed to approve the July 3, 2019 SIP revision.¹⁷

⁹ We only acted on the state rules associated with the Backstop Trading Program and emissions inventories in the 2008 submittal because the 2011 submittal superseded and replaced all other sections. We took no action on the December 12, 2003, and August 8, 2004, submittals because these were superseded entirely by the 2011 submittal. 77 FR 74355, 74356 (Dec.14, 2012).

¹⁰ 77 FR at 74357.

¹¹ A State must demonstrate that a BART alternative achieves greater reasonable progress than source-specific BART. 40 CFR 51.308(e)(2), (e)(3).

¹² 81 FR 43894 (July 5, 2016).

¹³ 81 FR at 43896, 43907.

¹⁴ Utah v. EPA, No. 16-9541 (10th Cir.); PacifiCorp v. EPA, No. 16-9542 (10th Cir.); Utah Associated Municipal Power Systems v. EPA, No. 16-9543 (10th Cir.); Deseret Generation Transmission Cooperative v. EPA, No. 16-9545 (10th Cir.).

¹⁵ Utah v. EPA, No. 16-9541 (10th Cir.), ECF No. 10496767.

¹⁶ On December 3, 2019, Utah submitted a supplement to the July 2019 SIP submission that includes an amendment to the monitoring, record keeping, and reporting requirements.

¹⁷ 85 FR 3558 (Jan. 22, 2020).

III. The EPA's Evaluation of Utah's Progress Report and Adequacy Determination

A. Regional Haze Progress Report

In this action, the EPA is proposing to approve Utah's Progress Report and the State's determination that the existing regional haze implementation plan requires no further substantive revision. Utah's Progress Report must meet the requirements set forth in 40 CFR 51.309(d)(10)(i). The State must also provide a determination of the adequacy of the existing implementation plan to ensure reasonable progress. 40 CFR 51.309(d)(10)(ii). If the State determines that the existing implementation plan requires no further revision, then the State must provide a negative declaration that further revision of the existing implementation plan is not needed at this time. Id.

As previously noted, on January 22, 2020, the EPA proposed to approve a SIP revision that provides a BART alternative for the Hunter and Huntington power plants.¹⁸ The EPA has not yet taken final action to approve the proposed SIP revision, and the EPA is not prejudging the outcome of that rulemaking process. We note that in the event the proposed SIP revision is not finalized, there is already a FIP in place which addresses the previously identified SIP deficiencies. Thus, regardless of whether the EPA finalizes the proposed approval of the Utah SIP revision for the Hunter and Huntington power plants, Utah will have an implementation plan in place that fully addresses the regional haze requirements for the first implementation period.

¹⁸ Id.

1. Status of Implementation of Control Measures

Utah's Progress Report must include a description of the status of implementation of all control measures included in the regional haze SIP for achieving reasonable progress goals for Class I areas both within and outside of the State. 40 CFR 51.309(d)(10)(i)(A).

In its Progress Report, Utah summarized the regional haze measures that were relied upon in the regional haze SIP, as well as the SO2 emissions reduction strategies implemented by sources in New Mexico, Utah and Wyoming under the SO2 Backstop Trading Program. The State referenced the SO2 emissions for sources associated with the SO2 Backstop Trading Program ¹⁹ found within the 2013 Regional SO2 Emissions and Milestones Report ²⁰ (Table 1).

¹⁹ Utah Progress Report, page F-12.

²⁰ Western Regional Air Partnership, 2013 Regional SO2 Emissions and Milestone Report (March 18, 2015).

²¹ In 2013, three states participated in the SO2 Backstop Trading Program. SO2 emissions from all three participating states are recorded and collectively compared to the milestone.

Table 1—Reported Emissions for Sources Associated With the Backstop Trading Program ²¹
State | Plant name | Reported 2013 SO2 emissions (tons)
NM | Agave Energy Co./Agave Dagger Draw Gas Plant | 14
NM | Frontier Field Services/Empire Abo Plant | 478
NM | DCP Midstream/Artesia Gas Plant | 284
NM | DCP Midstream/Eunice Gas Plant | 3,044
NM | DCP Midstream/Linam Ranch Gas Plant | 648
NM | Duke—Magnum/Pan Energy—Burton Flats | 0
NM | Duke Energy/Dagger Draw Gas Plant | 0
NM | Versado Gas Processors, LP/Eunice Gas Plant | 184
NM | Frontier Field Services/Maljamar Gas Plant | 2,244
NM | Western Refining Southwest Inc-Gallup Refinery | 34
NM | Davis Gas Processing/Denton Plant | 972
NM | OXY USA WTP Limited Partnership—Indian Basin Gas Plant | 44
NM | Navajo Refining Co/Artesia Refinery | 39
NM | Public Service Co of New Mexico/San Juan Generating Station | 6,076
NM | Raton Pub. Service/Raton Power Plant | 0
NM | Regency Field Services/Jal #3 | 1,002
NM | Versado Gas Processors, LP/Eunice South Gas Plant | 0
NM | Versado Gas Processors, LLC/Monument Plant | 723
NM | Versado Gas Processors, LLC/Saunders Plant | 369
NM | Tri-State Gen & Transmission/Escalante Station | 951
NM | Western Gas Resources/San Juan River Gas Plant | 58
NM | Western Refining Southwest Inc./Bloomfield Products Terminal | 0
NM | ConocoPhillips-Midland Office/MCA Tank Battery No. 2 | 195
NM | ConocoPhillips-Midland Office/East Vacuum Liquid Recovery and CO2 Plant | 156
UT | Brigham Young University—Main Campus | 120
UT | Chevron Products Co—Salt Lake Refinery | 26
UT | Big West Oil Company—Flying J Refinery | 45
UT | Graymont Western US Inc—Cricket Mountain Plant | 52
UT | Holcim—Devil's Slide Plant | 172
UT | Holly Refining and Marketing Co—Phillips Refinery | 101
UT | Intermountain Power Service Corporation—Intermountain Generating Station | 4,724
UT | Kennecott Utah Copper Corp—Power Plant/Lab/Tailings Impoundment | 1,810
UT | Kennecott Utah Copper Corp—Smelter and Refinery | 727
UT | Materion Natural Resources—Delta Mill | 0
UT | PacifiCorp—Carbon Power Plant | 7,702
UT | PacifiCorp—Hunter Power Plant | 5,055
UT | PacifiCorp—Huntington Power Plant | 2,409
UT | Patara Midstream LLC Lisbon Natural Gas Processing Plant | 5
UT | Sunnyside Cogeneration Associates—Sunnyside Cogeneration Facility | 917
UT | Tesoro West Coast—Salt Lake City Refinery | 664
UT | Utelite Corporation—Shale Processing | 80
WY | American Colloid Mineral Co—East Colony | 96
WY | American Colloid Mineral Co—West Colony | 0
WY | Basin Electric—Dry Fork Station | 830
WY | Basin Electric—Laramie River Station | 9,286
WY | Big Horn Gas Processing—Big Horn/Byron Gas Plant | 0
WY | Black Hills Corporation—Neil Simpson I | 879
WY | Black Hills Corporation—Neil Simpson II | 511
WY | Black Hills Corporation—Osage Plant | 0
WY | Black Hills Corporation—Wygen I | 566
WY | Cheyenne Light Fuel and Power Company—Wygen II | 172
WY | Black Hills Corporation—Wygen III | 315
WY | Burlington Resources—Bighorn Wells | 0
WY | Burlington Resources—Lost Cabin Gas Plant | 1,998
WY | Chevron USA—Carter Creek Gas Plant | 596
WY | Chevron USA—Table Rock Field | 0
WY | Chevron USA—Table Rock Gas Plant | 22
WY | Chevron USA—Whitney Canyon/Carter Creek Wellfield | 3
WY | Devon Energy Production Co., L.P.—Beaver Creek Gas Field | 2
WY | Devon Gas Services, L.P.—Beaver Creek Gas Plant | 49
WY | Encore Operating LP—Elk Basin Gas Plant | 824
WY | Exxon Mobil Corporation—Labarge Black Canyon Facility | 139
WY | Exxon Mobil Corporation—Shute Creek | 885
WY | FMC Corp—Green River Sodium Products | 2,942
WY | FMC Wyoming Corporation Granger Soda Ash Plant | 344
WY | Frontier Oil & Refining Company—Cheyenne Refinery | 267
WY | Worland Plant | 25
WY | Marathon Oil Co—Oregon Basin Gas Plant | 182
WY | Marathon Oil Co—Oregon Basin Wellfield | 40
WY | Merit Energy Company—Brady Gas Plant | 316
WY | Merit Energy Company—Whitney Facility | 1
WY | Merit Energy Company—Whitney Canyon Wellfield | 0
WY | Mountain Cement Company—Laramie Plant | 273
WY | P4 Production, L.L.C.—Rock Springs Coal Calcining Plant | 754
WY | PacifiCorp—Dave Johnston Plant | 8,648
WY | PacifiCorp—Jim Bridger Plant | 11,397
WY | PacifiCorp—Naughton Plant | 6,741
WY | PacifiCorp—Wyodak Plant | 2,236
WY | Simplot Phosphates LLC—Rock Springs Plant | 1,222
WY | Sinclair Oil Company—Sinclair Refinery | 154
WY | Sinclair Wyoming Refining Company—Casper Refinery | 225
WY | Solvay Chemicals—Soda Ash Plant (Green River Facility) | 42
WY | TATA Chemicals (Soda Ash Partners)—Green River Plant | 4,662
WY | The Western Sugar Cooperative—Torrington Plant | 203
WY | University of Wyoming—Heat Plant | 160
WY | Wyoming Refining—Newcastle Refinery | 263

Utah's Progress Report identified four stationary sources subject to BART: PacifiCorp Hunter Units 1 and 2 and PacifiCorp Huntington Units 1 and 2. The status of control measures associated with PM and NOX emissions for these four units in addition to the three other units included in the June 2015 and July 2019 BART alternatives are provided in Table 2. As explained above, the EPA has proposed but not yet taken final action with respect to Utah's BART alternative for the Hunter and Huntington Units.

Table 2—Control Measures and Updates for Sources Subject to BART and the BART Alternative in Utah ²²
Unit | PM control type | PM emission limit ¹ ² | NOX control type | NOX emission limit ³
Hunter Unit 1 | Fabric Filter (completed in 2014) | 0.015 lb/MMBtu (three-run test average) | Low-NOX burners (LNB) + separated overfire air (SOFA) (completed in 2014) | 0.26 lb/MMBtu (30-day rolling).
Hunter Unit 2 | Fabric Filter (completed in 2011) | 0.015 lb/MMBtu (three-run test average) | LNB + SOFA (completed in 2011) | 0.26 lb/MMBtu (30-day rolling).
Hunter Unit 3 | NA | NA | LNB + SOFA (completed in 2008)⁴ | 0.34 lb/MMBtu (30-day rolling).
Huntington Unit 1 | Fabric Filter (completed in 2010) | 0.015 lb/MMBtu (three-run test average) | LNB + SOFA (completed in 2010) | 0.26 lb/MMBtu (30-day rolling).
Huntington Unit 2 | Fabric Filter (completed in 2006) | 0.015 lb/MMBtu (three-run test average) | LNB + SOFA (completed in 2006) | 0.26 lb/MMBtu (30-day rolling).
Carbon Unit 1 | NA | Shutdown by August 15, 2015 | NA | Shutdown by August 15, 2015.
Carbon Unit 2 | NA | Shutdown by August 15, 2015 | NA | Shutdown by August 15, 2015.
¹ Based on annual stack testing.
² The BART PM emissions limits were previously approved in our July 2016 final rule. 81 FR at 43907.
³ Based on continuous emission monitoring system (CEMS) measurement.
⁴ 81 FR 2004, 2018 (Jan. 14, 2016).

In addition to summarizing the status of the SO2 Backstop Trading Program and PM and NOX BART controls, Utah provides an update on the State's Smoke Management Plan (SMP) which provides operating procedures for federal and state agencies that use prescribed fire, wildfire, and wildland fire on federal, state and private wildlands in Utah.²³ Federal and state land managers and the Utah Department of Air Quality formed the Utah Airshed Oversight Group to manage, oversee, and evaluate the SMP. After being certified by the EPA in 1999, the SMP, in accordance with evaluations conducted by the Utah Airshed Oversight Group, was revised in 2006 and 2014 and included the transition to a web-based burn permitting program. In its Progress Report, the State provides the status of Utah's alternative treatments to fire and agricultural burning in addition to the 2011 prescribed fire emissions (Table 3).²⁴

²² Obtained from the July 2019 Utah regional haze SIP submittal, Section IX.H.22. The measures in the NOX BART alternative of the July 2019 SIP submittal are identical to those in the alternative in the June 2015 SIP submittal (i.e. Utah submitted the same NOX BART alternative in the June 2015 and July 2019 SIPs). As explained above, the EPA proposed to approve the July 2019 SIP on January 22, 2020. 85 FR at 3558. By including these SIP measures here, the EPA is not prejudging the outcome of its ongoing rulemaking process regarding the 2019 SIP.

²³ Utah Progress Report, page F-14-F-16.

²⁴ Utah Progress Report, page F-15.

Table 3—Prescribed Fire Emissions in 2011
Agency | Projects implemented | Black acres | Tons consumed | Tons of PM10 | Percent %
Bureau of Indian Affairs | 2 | 3,900 | 56,550 | 707 | 2
Bureau of Land Management | 21 | 1,621 | 11,722 | 134 | 19
Forest Service | 44 | 10,484 | 194,837 | 2,385 | 40
Fish and Wildlife Service | 4 | 2,505 | 7,453 | 39 | 4
National Park Service | 9 | 429 | 5,024 | 67 | 8
Utah Division of Forestry, Fire, and State Lands | 29 | 3,074 | 28,570 | 333 | 27
Totals | 109 | 22,013 | 304,156 | 3,665 | 100

Finally, Utah also provides status updates in the Progress Report for the Clean Air Corridor,²⁵ Pollution Prevention and Renewable Energy,²⁶ mobile sources, comprehensive emissions tracking system, New Source Performance Standards, Prevention of Significant Deterioration, New Source Review, Maximum Achievable Control Technology, and other Grand Canyon Visibility Transport Commission recommendations.²⁷

²⁵ The Clean Air Corridor is an area covering major portions of Nevada, southern Utah, eastern Oregon and southwestern Idaho intended to represent a region from which clean air transport influences many of the clean air days at Grand Canyon National Park. Utah Progress Report, page F-16.

²⁶ The Grand Canyon Visibility Transport Commission set a goal of achieving 10 percent of generation from renewable resources in 2005 and 20 percent in 2015. Utah reports that significant progress has been made towards these goals. Utah Progress Report, page F-17.

²⁷ Utah Progress Report, pages F-18-F-20.

The EPA proposes to find that Utah has adequately addressed the applicable provisions under 40 CFR 51.309(d)(10)(i)(A) regarding the implementation status of control measures because the State's Progress Report provides documentation of the implementation of control measures within Utah, including the BART-eligible sources.

2. Summary of Emissions Reductions Achieved

Utah's Progress Report must include a summary of the emissions reductions achieved throughout the State through implementation of control measures mentioned in 40 CFR 51.309(d)(10)(i)(A). 40 CFR 51.309(d)(10)(i)(B)

In its Progress Report, Utah presents information on emissions reductions achieved from the pollution control strategies discussed above. The State provides regional SO2 emissions from 2003 through 2013 (Table 4) as well as statewide SO2, NOX, ammonia, volatile organic compounds, primary organic aerosol, elemental carbon, fine soil, and coarse mass emissions in 2002 and 2008. (Table 5).

²⁸ See Utah Progress Report, page F-20; see also Western Regional Air Partnership, 309 Committee: Documents, https://www.wrapair.org//forums/309/docs.html (last visited April 3, 2020). This Table represents the adjusted SO2 emissions/milestone for New Mexico, Utah, Wyoming, and Albuquerque-Bernalillo County. Adjustments to reported emissions are required to allow the basis of current emissions estimates to account for changes in monitoring and calculation methods.

Table 4—Regional SO2 Emissions and Milestones ²⁸
Year | Adjusted reported SO2 emissions (tons) | Adjusted regional milestone (tons)
2003 | * 330,679 | * 447,383
2004 | * 337,970 | * 448,259
2005 | * 304,591 | * 446,903
2006 | ** 279,134 | ** 20,194
2007 | ** 273,663 | ** 420,637
2008 | ** 244,189 | 378,398
2009 | 143,704 | 234,903
2010 | 131,124 | 200,722
2011 | 117,976 | 200,722
2012 | 96,246 | 200,722
2013 | 101,381 | 185,795
2014 | 92,533 | 170,868
2015 | 81,454 | 155,940
* Represents the adjusted SO2 emissions/milestone for Arizona, New Mexico, Oregon, Utah, Wyoming, and Albuquerque-Bernalillo County.
** Represents the adjusted SO2 emissions/milestone for Arizona, New Mexico, Utah, Wyoming, and Albuquerque-Bernalillo County. Figures with no asterisk represent the adjusted SO2 emissions/milestone for New Mexico, Utah, Wyoming, and Albuquerque-Bernalillo County.

Table 5—SO2, NOX, Ammonia, Volatile Organic Compounds, Primary Organic Aerosol, Elemental Carbon, Fine Soil, and Coarse Mass Emissions ²⁹
Pollutant | 2002 Emissions † (tons/year) | 2008 Emissions ‡ (tons/year) | Difference between 2002 and 2008 emissions (tons/year)/ percent change
Sulfur Dioxide | 54,083 | 31,190 | −22,892/−42
Nitrogen Oxides | 239,969 | 193,322 | −38,262/−19
Ammonia | 29,999 | 39,744 | 9,745/32
Volatile Organic Compounds | 827,515 | 396,449 | −431,066/−52
Primary Organic Aerosol | 29,407 | 7,547 | −21,860/−74
Elemental Carbon | 8,769 | 4,098 | −4,671/−53
Fine Soil | 14,877 | 28,536 | 13,659/92
Coarse Mass | 97,500 | 214,745 | 117,245/>100
† Plan02d.
‡ WestJump2008.

The emissions data show that there were decreases in emissions of SO2, NOX, volatile organic compounds, primary organic aerosol, and elemental carbon. Furthermore, regional SO2 emissions have been below the milestone every year. According to the State, increases in emissions of coarse and fine particulate between 2002 and 2008 (>100 percent and 92 percent, respectively) may be due to enhancements in dust inventory methodology rather than changes in actual emissions.³⁰ Similarly, ammonia emissions increased by 32 percent between 2002 and 2008. According to the State, increases in ammonia emissions, which are predominantly from area sources and on-road mobile sources, may be due to a combination of population changes and differences in methodologies used to estimate these emissions.³¹

²⁹ Utah Progress Report, pages F-50-F-57.

³⁰ Utah Progress Report, page F-49.

³¹ Utah Progress Report, page F-48.

The EPA proposes to conclude that Utah has adequately summarized the emissions reductions achieved throughout the State in its Progress Report as required under 40 CFR 51.309(d)(10)(i)(B). In meeting this requirement, the EPA does not expect states to quantify emissions reductions for measures which had not yet been implemented or for which the compliance date had not yet been reached at the time progress reports are finalized.³²

³² The Utah Progress Report is dated May 18, 2015.

3. Visibility Conditions and Changes

Pursuant to 40 CFR 51.309(d)(10)(i)(C) for each mandatory Class I area within the State, Utah must assess the following visibility conditions and changes, with values for most impaired and least impaired days ³³ expressed in terms of five-year averages of these annual values:

³³ The “most impaired days” and “least impaired days” in the regional haze rule refers to the average visibility impairment (measured in deciviews) for the 20% of monitored days in a calendar year with the highest and lowest amount of visibility impairment, respectively, averaged over a five-year period. See 40 CFR 51.301. In the context of 40 CFR 51.309 and this document, “most impaired” and “worst” have the same meaning and “least impaired” and “best” have the same meaning.

i. Assess the current visibility conditions for the most impaired and least impaired days.

ii. Analyze the difference between current visibility conditions for the most impaired and least impaired days and baseline visibility conditions.

iii. Evaluate the change in visibility impairment for the most impaired and least impaired days over the past five years.

In its Progress Report, Utah provides information on visibility conditions for the Class I areas within its borders. There are five Class I areas located in Utah: Arches National Park, Bryce Canyon National Park, Canyonlands National Park, Capitol Reef National Park, and Zion National Park. Monitoring and data representing visibility conditions in Utah's five Class I areas is based on the four Interagency Monitoring of Protected Visual Environments (IMPROVE) monitoring sites located across the State (Table 6).

Table 6—Utah's Class I Areas and IMPROVE Sites
Class I area | IMPROVE site
Arches National Park | CANY1
Bryce Canyon National Park | BRCA1
Canyonlands National Park | CANY1
Capitol Reef National Park | CAPI1
Zion National Park | ZICA1 *
* The ZICA1 monitoring site replaced the ZION1 monitoring site in 2003.

The Progress Report addressed current visibility conditions and the difference between the baseline period visibility conditions, progress period visibility conditions, and current period visibility conditions with values for the most impaired (20 percent worst days) and least impaired and/or clearest days (20 percent best days). Table 7: Visibility Progress in Utah's Class I Areas, shows the difference between the current period (represented by 2009-2013 data) and the baseline visibility data (represented by 2000-2004 data) ³⁴ in addition to the Preliminary Reasonable Progress (PRP) projection.³⁵ The PRP was developed by the WRAP as the projected visibility improvement for 2018, and reflects growth plus all controls “on the books” as of a certain date.³⁶ Table 8: Visibility Rolling 5-Year Averages in Utah's Class I Areas, shows the rolling 5-year average visibility from 2000-2013 as well as the change from the first 5-year rolling average period (2000-2004) to the last 5-year rolling average period (2009-2013).

³⁴ Utah Progress Report, pages F-31-F-32.

³⁵ 77 FR at 74361-62.

³⁶ PRPa predicts improvement as of March 2007, while PRPb predicts improvement as of March 2009.

Table 7—Visibility Progress in Utah's Class I Areas
Class I area | IMPROVE site | Baseline period 2000-04 | Progress period 2005-09 | Current period 2009-13 | Difference (progress— baseline) | Difference (current— baseline) | 2018 preliminary reasonable progress PRP18a/PRP18b
|  | Deciview
20% Worst Days
Arches National Park | CANY1 | 11.2 | 11.0 | 10.8 | −0.2 | −0.4 | 10.9/10.7
Bryce Canyon National Park | BRCA1 | 11.6 | 11.9 | 10.6 | 0.3 | −1.0 | 11.2/11.1
Canyonlands National Park | CANY1 | 11.2 | 11.0 | 10.8 | −0.2 | −0.4 | 10.9/10.7
Capitol Reef National Park | CAPI1 | 10.9 | 11.3 | 10.2 | 0.4 | −0.7 | 10.5/10.4
Zion National Park | ZICA1 | 12.5 | 12.3 | 10.8 | −0.2 | −1.7 | ** NA
20% Best Days
Arches National Park | CANY1 | 3.7 | 2.8 | 3.1 | −0.9 | −0.6 | 3.5
Bryce Canyon National Park | BRCA1 | 2.8 | 2.1 | 1.8 | −0.7 | −1.0 | 2.6
Canyonlands National Park | CANY1 | 3.7 | 2.8 | 3.1 | −0.9 | −0.6 | 3.5
Capitol Reef National Park | CAPI1 | 4.1 | 2.7 | 2.6 | −1.4 | −1.5 | 3.9
Zion National Park | ZICA1 | 5.0 | 4.3 | 4.3 | −0.7 | −0.7 | ** NA
** There are no PRPs established for the ZICA1 monitor. The PRP18a was originally established for the original ZION1 IMPROVE monitor, which was discontinued on July 29, 2004.

Table 8—Visibility Rolling 5-Year Averages in Utah's Class I Areas
Class I area | IMPROVE site | 2000-04 | 2005-09 | 2006-10 | 2007-11 | 2008-12 | 2009-13 | Change from baseline
|  | Deciview
20% Worst Days
Arches National Park | CANY1 | 11.2 | 11.0 | 11.0 | 10.9 | 11.0 | 10.8 | −0.4
Bryce Canyon National Park | BRCA1 | 11.6 | 11.9 | 11.4 | 11.4 | 11.0 | 10.6 | −1.0
Canyonlands National Park | CANY1 | 11.2 | 11.0 | 11.0 | 10.9 | 11.0 | 10.8 | −0.4
Capitol Reef National Park | CAPI1 | 10.9 | 11.3 | 10.8 | 10.4 | 10.5 | 10.2 | −0.7
Zion National Park | ZICA1 | 12.5 | 12.3 | 12.5 | 12.2 | 11.5 | 10.8 | −1.7
20% Best Days
Arches National Park | CANY1 | 3.7 | 2.8 | 2.9 | 2.9 | 2.9 | 3.1 | −0.6
Bryce Canyon National Park | BRCA1 | 2.8 | 2.1 | 2.0 | 2.0 | 1.8 | 1.8 | −1.0
Canyonlands National Park | CANY1 | 3.7 | 2.8 | 2.9 | 2.9 | 2.9 | 3.1 | −0.6
Capitol Reef National Park | CAPI1 | 4.1 | 2.7 | 2.6 | 2.7 | 2.5 | 2.6 | −1.5
Zion National Park | ZICA1 | 5.0 | 4.3 | 4.5 | 4.4 | 4.2 | 4.2 | −0.8

As shown in Table 7, all the IMPROVE monitoring sites within the State show improvement in visibility conditions between the baseline (2000-2004) and current (2009-2013) periods on both the 20 percent worst visibility and 20 percent best visibility days. In addition, all of Utah's Class I areas met the PRP18a on both the 20 percent worst and 20 percent best visibility days over the current (2009-2013) period (Table 7). Furthermore, deciview improvement was consistent over the 2000-2013 time period, using 5-year rolling averages (Table 8).³⁷

³⁷ Refer to the Utah Progress Report for pollutant contributions at each Class I area and 5-year rolling averages. Utah Progress Report, pages F-39-F-46.

In its Progress Report, Utah demonstrates that particulate organic matter was the largest contributor to light extinction on the 20 percent worst days with the largest difference between the 5-year average baseline and progress periods at the Bryce Canyon National Park (BRCA1) site.³⁸ According to the State, the difference between the 5-year average baseline and progress periods at the BRCA1 site was influenced by large wildfire events in July and August of 2009.³⁹

³⁸ Utah Progress Report, pages F-34, F-37.

³⁹ Utah Progress Report, pages F-10, F-37.

The EPA proposes to conclude that Utah has adequately addressed the requirements under 40 CFR 51.309(d)(10)(i)(C) to include summaries of monitored visibility data as required by the Regional Haze Rule.

4. Emissions Tracking Analysis

Utah's Progress Report must include an analysis tracking the change over the past five years in emissions of pollutants contributing to visibility impairment from all sources and activities within the State. 40 CFR 51.309(d)(10)(i)(D).

In its Progress Report, Utah presents data from a 2008 emissions inventory, which leverages inventory development work performed by the Western Regional Air Partnership (WRAP) for the West-wide Jumpstart Air Quality Modeling Study (WestJumpAQMS) ⁴⁰ and the Deterministic & Empirical Assessment of Smoke's Contribution to Ozone (DEASCO3) modeling projects, termed WestJump2008 and compares it to the baseline emissions inventory for 2002 (Plan02d).⁴¹ The pollutants inventoried include the following source classifications: SO2, NOX, ammonia, volatile organic compounds, primary organic aerosol, elemental carbon, fine soil, and coarse mass from both anthropogenic and natural sources (Table 9).

⁴⁰ WRAP Regional Technical Center and West Jump AQMS, https://www.wrapair2.org/WestJumpAQMS.aspx (last visited March 19, 2020). Additional information on the WestJump study available in the docket for this action, “WestJump Fact Sheet.”

⁴¹ Utah Progress Report, pages F-46, F-48.

Table 9—Emissions Progress in Utah
Pollutant (anthropogenic, natural, and total sources) | 2002 emissions (Plan02d) | 2008 emissions (WestJump2008) | Difference (percent change) | 2018 preliminary reasonable progress (PRP18a)
| tons/year
SO2:
Anthropogenic | 51,665 | 31,410 | −20,256 (−39) | 42,096
Natural | 2,418 | 92 | −2,326 (−96) | 2,418
Total | 54,083 | 31,190 | −22,892 (−42) | 44,513
NOX:
Anthropogenic | 218,499 | 194,913 | −23,586 (−11) | 150,593
Natural | 21,470 | 6,793 | −14,676 (−68) | 21,470
Total | 239,969 | 193,322 | −38,262 (−19) | 172,063
Ammonia:
Anthropogenic | 28,107 | 39,295 | 11,188 (40) | 29,947
Natural | 1,893 | 449 | −1,444 (−76) | 1,893
Total | 29,999 | 39,744 | 9,745 (32) | 31,840
Volatile Organic Compounds:
Anthropogenic | 166,550 | 228,985 | 62,434 (37) | 213,767
Natural | 660,965 | 238,518 | −422,447 (−64) | 660,966
Total | 827,515 | 396,449 | −431,066 (−52) | 874,732
Primary Organic Aerosol:
Anthropogenic | 3,220 | 6,379 | 3,159 (98) | 3,064
Natural | 26,187 | 1,167 | −25,020 (−96) | 26,188
Total | 29,407 | 7,547 | −21,860 (−74) | 29,252
Elemental Carbon:
Anthropogenic | 3,364 | 3,889 | 524 (16) | 1,327
Natural | 5,405 | 209 | −5,196 (−96) | 5,405
Total | 8,769 | 4,098 | −4,671 (−53) | 6,732
Fine Soil:
Anthropogenic | 5,585 | 17,297 | 11,712 (>100) | 7,953
Natural | 9,292 | 11,239 | 1,947 (21) | 9,292
Total | 14,877 | 28,536 | 13,659 (92) | 17,245
Coarse Mass:
Anthropogenic | 23,676 | 117,232 | 93,556 (>100) | 36,357
Natural | 73,824 | 97,513 | 23,689 (32) | 73,824
Total | 97,500 | 214,745 | 117,245 (>100) | 110,181

Overall, Utah's emissions that affect visibility were reduced in all sectors for all pollutants (total) except for ammonia and coarse and fine particulate matter categories. Similar to other Western states,⁴² Utah cites large variability in changes in windblown dust observed for contiguous Western states, which was likely due in large part to enhancements in dust inventory methodology rather than changes in actual emissions.⁴³ The largest decrease in point source inventories was in SO2 emissions which can be attributed to the implementation of the SO2 Backstop Trading Program in December 2003.⁴⁴ The largest increase in point source inventories was in NOX emissions going from 84,218 tons per year in 2002 to 87,623 tons per year in 2008.⁴⁵ According to the State, the differences in NOX emissions inventories result from normal fluctuations in plant operations and do not indicate a trend of increasing emissions. Indeed, a triennial inventory for 2011 shows point source NOX emissions of 69,913 tons per year which is 17 percent lower than recorded in the base year inventory.⁴⁶

⁴² 84 FR 32682, 32687 (July 9, 2019), 85 FR 21341 (April 17, 2020).

⁴³ Utah Progress Report, page F-49.

⁴⁴ Utah Progress Report, page F-50.

⁴⁵ Utah Progress Report, page F-51.

⁴⁶ Utah Progress Report, page F-48.

The EPA proposes to conclude that Utah has adequately addressed the requirements under 40 CFR 51.309(d)(10)(i)(D) to track changes in emissions of pollutants contributing to visibility impairment from all sources and activities within the State.

5. Assessment of Changes Impeding Visibility Progress

Utah's Progress Report must include an assessment of any significant changes in anthropogenic emissions within or outside the State that have occurred over the past five years that have limited or impeded progress in reducing pollutant emissions and improving visibility in Class I areas impacted by the State's sources. 40 CFR 51.309(d)(10)(i)(E).

In its Progress Report, Utah provided an assessment of significant changes in anthropogenic emissions within or outside the State. On the 20% worst days over the 5-year period from 2005-2009, particulate organic matter and ammonium sulfate were the two highest contributors to haze in Class I areas in Utah. According to the State, the primary sources of anthropogenic particulate organic matter in Utah include prescribed forest and agricultural burning, vehicle exhaust, vehicle refueling, solvent evaporation (e.g., paints), food cooking, and various commercial and industrial sources. The State asserts that increases in anthropogenic primary organic aerosols may be due to changes in methodology between 2002 and 2008 and do not necessarily reflect an actual change in emissions. According to the State, the primary anthropogenic sources of SO2 include coal-burning power plants and other industrial sources, with stationary point sources accounting for approximately 90 percent of SO2 emissions in Utah. The State asserts that SO2 emissions declined by 42 percent between 2002 and 2008. Because anthropogenic emissions within Utah have decreased overall, Utah concludes that anthropogenic SO2 emissions or other anthropogenic emissions have not limited or impeded progress in reducing pollutant emissions or reducing visibility.⁴⁷

⁴⁷ Utah Progress Report, page F-59.

Although not cited in Utah's Progress Report, at the time of the analysis done by the State for the Progress Report (March 2015), not all BART alternative controls had been realized because compliance dates had not yet occurred for Carbon Units 1 and 2 (Table 2). Thus, the impacts of the emissions reductions from BART alternative controls had not been fully realized and are therefore not evident or accounted for in the State's Progress Report. These additional anthropogenic emissions reductions have further improved visibility in Utah's Class I areas.

The EPA proposes to find that Utah has adequately addressed the requirements under 40 CFR 51.309(d)(10)(i)(E) and proposes to agree with Utah that there have been no significant changes in anthropogenic emissions that have limited or impeded progress in reducing pollutant emissions and improving visibility.

6. Assessment of Current Implementation Plan Elements and Strategies

Utah's Progress Report must include an assessment of whether the current implementation plan elements and strategies are sufficient to enable the State, or other states with mandatory Class I areas affected by emissions from the State, to meet all established reasonable progress goals. 40 CFR 51.309(d)(10)(i)(F).

In its Progress Report, Utah provided an assessment of whether the current implementation plan elements and strategies in the regional haze SIP are sufficient to enable the State, or other states with Class I areas affected by emissions from the State, to meet all established reasonable progress goals. In particular, Utah compared visibility conditions and emissions reductions to the WRAP PRP projections.⁴⁸

⁴⁸ Utah Progress Report, pages F-59-F-63.

Under the Regional Haze Rule, states adopting the requirements of 40 CFR 51.309 are deemed to have met the reasonable progress requirements for the Class I areas located on the Colorado Plateau. 40 CFR 51.309(a). Since all the Class I areas in Utah are on the Colorado Plateau, the State met all reasonable progress requirements for the Class I areas in Utah. Additionally, Utah previously determined, and the EPA agreed, that emissions from the State do not significantly impact or will not significantly impact other states' Class I areas. Thus, Utah was not required to establish reasonable progress goals.⁴⁹ Accordingly, for the purpose of evaluating this section of the progress report requirements, we propose to assess progress toward the PRPs.

⁴⁹ 77 FR at 74367-68.

Utah asserts that visibility continues to improve at the State's Class I areas from 2000 through 2013. Indeed, key visibility metrics described previously, show: (1) A decrease in total SO2 and NOX emissions, which are associated with anthropogenic sources; (2) improvement in visibility conditions between the baseline (2000-2004) and current (2009-2013) periods on both the 20 percent worst visibility and 20 percent best visibility days at all IMPROVE monitoring sites; (3) achievement of the PRP18a at all of Utah's Class I areas on both the 20 percent worst and 20 percent best visibility days over the current (2009-2013) period; ⁵⁰ and (4) consistent deciview improvement over the 2000-2013 time period, using 5-year rolling averages. Thus, Utah is confident that the current implementation plan elements and strategies are sufficient to make progress towards visibility goals.

⁵⁰ PRP18b modeling results show additional projected visibility improvement using all known and expected controls as of March 2009. All of Utah's Class I areas achieve PRP18b except for Arches National Park and Canyonlands National Park which, at 10.8 deciviews during the current period (2009-2013), are above the PRP18b of 10.7 deciviews. See supra Table 7.

The EPA proposes to conclude that Utah has adequately addressed the requirements under 40 CFR 51.309(d)(10)(i)(F) and proposes to agree with the State's determination that implementation plan elements are sufficient to enable the State to make reasonable progress towards the WRAP's PRPs.

7. Review of Current Monitoring Strategy

Utah's Progress Report must include a review of the State's visibility monitoring strategy and any modifications to the strategy as necessary. 40 CFR 51.309(d)(10)(i)(G).

The monitoring strategy for regional haze in Utah relies upon participation in the IMPROVE network, which is the primary monitoring network for regional haze nationwide.

In its Progress Report, Utah summarizes the existing monitoring network, which includes four IMPROVE monitors, used to monitor visibility at the five Class I areas in the State. The State relies solely on the IMPROVE monitoring network to track long-term visibility improvement and degradation and will continue to rely on the IMPROVE monitoring network, without modifications to the existing network, for complying with the regional haze monitoring requirements.

The EPA proposes to find that Utah adequately addressed the requirements of 40 CFR 51.309(d)(10)(i)(G) because the State reviewed its visibility monitoring strategy and determined that no further modifications to the strategy are necessary.

B. Determination of Adequacy of the Existing Regional Haze Plan

The provisions under 40 CFR 51.309(d)(10)(ii) require states to determine the adequacy of their existing implementation plan to meet existing reasonable progress goals and take one of the following actions:

(1) Submit a negative declaration to the EPA that no further substantive revision to the state's existing regional haze implementation plan is needed at this time;

(2) If the state determines that the implementation plan is or may be inadequate to ensure reasonable progress due to emissions from sources in another state(s) which participated in a regional planning process, the state must provide notification to the EPA and to the other state(s) which participated in the regional planning process with the state. The state must also collaborate with the other state(s) through the regional planning process for developing additional strategies to address the plan's deficiencies;

(3) Where the state determines that the implementation plan is or may be inadequate to ensure reasonable progress due to emissions from sources in another country, the state shall provide notification, along with available information, to the Administrator; or

(4) If the state determines that the implementation plan is or may be inadequate to ensure reasonable progress due to emissions from sources within the state, then the state shall revise its implementation plan to address the plan's deficiencies within one year.

According to Utah, the IMPROVE data demonstrate that Utah is on track to meet the WRAP's PRPs. Thus, Utah's Progress Report provides a negative declaration to the EPA that no further substantive revisions to the regional haze SIP are needed to improve visibility in Class I areas beyond those controls already in place and scheduled to be in place at the time Utah prepared the Progress Report.⁵¹

⁵¹ Utah Progress Report, page F-65.

The EPA proposes to conclude that Utah has adequately addressed 40 CFR 51.309(d)(10)(i)(G) because key visibility metrics described previously show improvement in visibility conditions between the baseline (2000-2004) and current (2009-2013) periods on both the 20 percent worst visibility and 20 percent best visibility days at all IMPROVE monitoring sites and consistent deciview improvement is shown over the 2000-2013 time period. Additionally, further visibility improvement has likely resulted from the 2015 shutdown of Carbon 1 and 2, which was required after Utah's Progress Report was finalized. The EPA also expects further visibility improvement to result from subsequent regional haze actions.

IV. Proposed Action

The EPA is proposing to approve Utah's March 7, 2016, Regional Haze Progress Report as meeting the applicable regional haze requirements set forth in 40 CFR 51.309(d)(10).

V. Statutory and Executive Order Reviews

Under the CAA, the Administrator is required to approve a SIP submission that complies with the provisions of the Act and applicable Federal regulations. 42 U.S.C. 7410(k); 40 CFR 52.02(a). Thus, in reviewing SIP submissions, the EPA's role is to approve state choices, provided that they meet the criteria of the CAA. Accordingly, this action merely proposes to approve state law as meeting Federal requirements and does not impose additional requirements beyond those imposed by state law. For that reason, this action:

• Is not a “significant regulatory action” subject to review by the Office of Management and Budget under Executive Orders 12866 (58 FR 51735, October 4, 1993) and 13563 (76 FR 3821, January 21, 2011);

• Is not an Executive Order 13771 (82 FR 9339, February 2, 2017) regulatory action because SIP approvals are exempted under Executive Order 12866;

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, the SIP is not approved to apply on any Indian reservation land or in any other area where EPA or an Indian tribe has demonstrated that a tribe has jurisdiction. In those areas of Indian country, the proposed rule does not have tribal implications and will not impose substantial direct costs on tribal governments or preempt tribal law as specified by Executive Order 13175 (65 FR 67249, November 9, 2000).

List of Subjects in 40 CFR Part 52

Environmental protection, Air pollution control, Carbon monoxide, Greenhouse gases, Incorporation by reference, Intergovernmental relations, Lead, Nitrogen dioxide, Ozone, Particulate matter, Reporting and recordkeeping requirements, Sulfur oxides, Volatile organic compounds.

Authority: 42 U.S.C. 7401 et seq.

Dated: May 29, 2020.
Gregory Sopkin,
Regional Administrator, EPA Region 8.

[FR Doc. 2020-12075 Filed 6-15-20; 8:45 am]

BILLING CODE 6560-50-P